DEPARTMENT OF EDUCATION

[CFDA No: 84.349A]

Early Childhood Educator Professional Development Program Grants

AGENCY: Department of Education.

ACTION: Notice of special final competition procedures for fiscal year (FY) 2001 Early Childhood Educator Professional Development Program grants.

SUMMARY: On April 24, 2001, the Secretary published in the Federal Register (66 FR 20640-20644) a notice inviting applications for new awards and final procedures and requirements for a FY 2001 competition for Early Childhood Educator Professional Development Program grants. The application deadline under that notice was June 25, 2001, which was extended to July 2, 2001 for applicants in certain areas of Louisiana, Texas, and Florida that the President declared as disaster areas due to Tropical Storm Allison (June 26, 2001; 66 FR 33953-33954).

The notice inviting applications contained an absolute priority, competitive and invitational preferences, and selection criteria that apply to this competition. In addition, the notice indicated that 34 CFR part 75 of the Education Department General Administrative Regulations (EDGAR) applies to these grants, which includes provisions in § 75.217 governing the Secretary's selection of applications for new awards.

Due to the unexpected receipt of over two hundred grant applications, the limited estimated number (10) of possible grant awards, and the importance of identifying the highest-quality early childhood educator professional development programs for replication from this large applicant pool, the Secretary announces special final competition procedures that will govern this competition and FY 2001 awards of these grants.

Competition Procedures. Except as stated below, the Secretary will follow the procedures in part 75 for selecting applications for new grants, including the procedures in § 75.217.

As indicated in § 75.217(a), the Secretary will select applications for new grants on the basis of the authorizing statute, the absolute priority, and the competitive preferences and selection criteria previously published in the Federal Register in the notice inviting applications. In selecting applications, the Secretary will use a two-tier process of review by experts who include persons who are not employees of the Federal Government.

In the first tier of review, panels of experts will evaluate eligible applications against the selection criteria published in the notice inviting applications. Depending upon the quality of the applications and their relative merit, the Secretary plans to select between approximately 30-50 of the highest-quality eligible applications that meet the absolute priority, based upon the points awarded under the selection criteria and competitive preferences during the first-tier review. Those applications then will qualify for a second-tier review.

In the second tier of review, a smaller number of panels comprised of experts who have specialized research-based knowledge about early childhood education, early literacy, and language development will review the applications that qualify for this tier of review. These specialized expert panels will evaluate the applications against the selection criteria published in the notice inviting applications. This second-tier review will be independent of the first-tier review. The Secretary will prepare a rank order of the applications in the second-tier review, based solely on the evaluation of their quality according to the selection criteria and their qualification for additional points under each of the competitive preferences.

The Secretary then will use the criteria in § 75.217(d) to determine the order in which the second group of applications will be selected for grants.

Waiver of Proposed Rulemaking: It is the Secretary's general practice, in accordance with the Administrative Procedure Act (APA) (5 U.S.C. 553), to offer interested parties the opportunity to comment on proposed rules. Section 437(d)(1) of the General Education Provisions Act (GEPA), however, exempts from this requirement rules that apply to the first competition under a new program such as this one. In addition, section 553(b)(A) of the APA provides that procedural rules, such as those in this notice, are not subject to rulemaking. Because of the unanticipated need for special competition procedures and to ensure timely awards of these grant funds, the Secretary has decided to forego public comment with respect to these procedures in accordance with section 437(d)(1) of GEPA and section 553(b)(A) of the APA. These procedures will be applicable only to the FY 2001 competition.

FOR FURTHER INFORMATION CONTACT: Doris F. Sligh, Compensatory Education Programs, Office of Elementary and Secondary Education, 400 Maryland Avenue SW, Washington, DC 20202-6132. Telephone: (202) 260-0999, or via Internet: Doris.Sligh@ed.gov.

If you use a telecommunications device for the deaf (TDD), you may call the Federal Information Relay Service (FIRS) at 1-800-877-8339. If you are an individual with a disability, you may obtain a copy of this notice in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6622 and Public Law No. 106-554.

Dated: July 12, 2001.
Thomas M. Corwin,
Acting Deputy Assistant Secretary for Elementary and Secondary Education.

[FR Doc. 01-17914 Filed 7-17-01; 8:45 am]

BILLING CODE 4000-01-U